DEPARTMENT OF ENERGY

Federal Energy Regulatory Commission

[Docket No. EC03-127-001, et al.]

IDACORP Energy L.P., et al.; Electric Rate and Corporate Filings

September 15, 2003.

The following filings have been made with the Commission. The filings are listed in ascending order within each docket classification.

1. IDACORP Energy L.P. and Sempra Energy Trading Corp

[Docket No. EC03-127-001]

Take notice that on September 8, 2003, IDACORP Energy L.P. and Sempra Energy Trading Corp., pursuant to Section 203 of the Federal Power Act submitted a supplement to Exhibit G of the Application filed on August 20, 2003 in Docket No. EC03-127-000.

Comment Date: September 22, 2003.

2. Caledonia Generating, LLC; PurEnergy Caledonia LLC

[Docket No. EC03-134-000]

Take notice that on September 4, 2003, Caledonia Generating, LLC (Caledonia) filed an application under Section 203 of the Federal Power Act requesting Commission authorization for the transfer of all jurisdictional facilities related to Caledonia's 813 MW gas-fired electric generating station located near the Town of Caledonia, Mississippi, to PurEnergy Caledonia LLC (PurEnergy Caledonia), in connection with the transfer of Caledonia's generating facility to a passive non-operating owner/lessor. Caledonia has requested privileged treatment of the contents of Exhibit I to the Section 203 application. In addition, PurEnergy Caledonia filed a notice of succession with respect to Caledonia's market-based rate tariff.

Comment Date: September 25, 2003.

3. Ameren Services Company

[Docket No. ER02-2237-002]

Take notice that on September 8, 2003, Ameren Services Company (Ameren) pursuant to the Commission's Letter Order dated August 8, 2003, submitted a compliance filing correcting the designation for the Network Operating Agreement which should read “Ameren Operating Companies FERC Electric Tariff Second Revised Volume No. 1, Second Substitute Service Agreement No. 512, Docket Nos. ER02-2237-000 and 001.”

Comment Date: September 29, 2003.

4. Southwest Power Pool, Inc.

[Docket No. ER03-978-001]

Take notice that on September 8, 2003, Southwest Power Pool, Inc. (SPP) submitted a revised Interconnection and Operating Agreement (Revised IA) between SPP, Blue Canyon Windpower, LLC (Blue Canyon) and Western Farmers Electric Cooperative (WFEC) in compliance with the Commission's July 23, 2003 Order in Docket No. ER03-978-000. SPP states that copies of this filing were served on Blue Canyon, WFEC and on all parties on the official service list in this docket.

Comment Date: September 30, 2003.

5. Pacific Gas and Electric Company

[Docket No. ER03-1091-001]

Take notice that on September 8, 2003, Pacific Gas and Electric Company (PG&E) tendered for filing a Notice of Termination of the Generator Special Facilities Agreement with Duke Energy Morro Bay LLC. PG&E has also requested certain waivers.

PG&E states that copies of this filing have been served upon Wellhead Panoche, Wellhead Gates, CalPeak Vaca Dixon, High Winds, Hanover, Duke Morro Bay, the California Independent System Operator Corporation and the CPUC.

Comment Date: September 29, 2003.

6. Pacific Gas and Electric Company

[Docket No. ER03-1115-000]

Take notice that on September 8, 2003, Pacific Gas and Electric Company (PG&E) withdrew its Request for Deferral of Consideration of its July 25, 2003, filing in Docket No. ER03-1115-000 of a revised Generator Special Facilities and Generator Interconnection Agreements between PG&E and Elk Hills Power, LLC (Elk Hills) (collectively, Parties).

PG&E states that copies of this filing have been served upon the California Public Utilities Commission and all parties designated on the official service list in this proceeding.

Comment Date: September 29, 2003.

7. Central Hudson Gas & Electric Corporation

[Docket Nos. ER03-1297-000, ER03-1298-000,ER03-1299-000, and ER03-1300-000]

Take notice that on September 9, 2003, Central Hudson Gas & Electric Corporation (Central Hudson) submitted Notices of Cancellation for its Rate Schedule FERC Nos. 57, 58, 59 and 60. Central Hudson states that the notices did not reflect the correct pagination pursuant to the requirements of the Commission's Order No. 614, and therefore Central Hudson is submitting substituted notices for those originally filed on September 3, 2003.

Comment Date: September 30, 2003.

8. Palama, LLC

[Docket No. ER03-1306-000]

Take notice that on September 8, 2003, Palama, LLC (Palama) petitioned the Commission for acceptance of Palama Rate Schedule FERC No. 1; the granting of certain blanket approvals, including the authority to sell electricity at market-based rates; and the waiver of certain Commission regulations.

Palama states that it intends to engage in wholesale electric power and energy purchases and sales as a marketer. Palama notes that it is not in the business of generating or transmitting electric power.

Comment Date: September 30, 2003.

9. PacifiCorp

[Docket No. ER03-1308-000]

Take notice that on September 8, 2003, PacifiCorp, tendered for filing in accordance with 18 CFR 35 of the Commission's Rules and Regulations a Notice of Cancellation of PacifiCorp's Rate Schedule No. 424 with Black Hills Corporation effective March 31, 2002.

PacificCorp states that copies of this filing were supplied to Black Hills Corporation and the Public Utility Commission of Oregon.

Comment Date: September 29, 2003.

10. Arizona Public Service Company

[Docket No. ER03-1309-000]

Take notice that on September 8, 2003, Arizona Public Service Company (APS) tendered for filing a Notice of Cancellation of the Edison-Arizona Interruptible Transmission Service Agreement, between APS and Southern California Edison Company (SCE), in accordance with Commission's regulations 18 CFR 35.11. APS is requesting an effective date of November 1, 2003.

Comment Date: September 29, 2003.

11. Arizona Public Service Company

[Docket No. ER03-1310-000]

Take notice that on September 8, 2003, Arizona Public Service Company (APS) tendered for filing a Notice of Cancellation of the Wholesale Power Agreement between APS and Southern California Edison Company (SCE), in accordance with Commission regulations 18 CFR 35.11. APS is requesting an effective date of December 31, 2003.

Comment Date: September 29, 2003.

12. Chesapeake Transmission, LLC

[Docket No. ER03-1311-000]

Take notice that on September 8, 2003, Chesapeake Transmission, LLC (CTL) submitted for filing, pursuant to Section 205 of the Federal Power Act, a petition requesting that the Commission: (1) Grant CTL blanket authority to make sales of transmission rights at negotiated rates; and (2) grant certain waivers, in connection with its proposed Chesapeake Transmission Line project.

Comment Date: September 29, 2003.

13. Midwest Independent Transmission System Operator, Inc.

[Docket No. ER03-1312-000]

Take notice that on September 8, 2003, the Midwest Independent Transmission System Operator, Inc. (Midwest ISO) submitted for filing Schedule 20—Station Power of its Open Access Transmission Tariff, FERC Electric Tariff, Second Revised Volume No. 1, in order to provide clarification of the Station Power process and procedures as it applied to Generators.

The Midwest ISO has requested waiver of the notice provision of Section 205 of the Federal Power Act in order to accommodate an effective date of October 8, 2003.

The Midwest ISO has also requested waiver of the service requirements set forth in 18 CFR 385.2010. The Midwest ISO states it has electronically served a copy of this filing, with attachments, upon all Midwest ISO Members, Member representatives of Transmission Owners and Non-Transmission Owners, the Midwest ISO Advisory Committee participants, as well as all state commissions within the region. In addition, the filing has been electronically posted on the Midwest ISO's Web site at www.midwestiso.org under the heading “Filings to FERC” for other interested parties in this matter. The Midwest ISO states it will provide hard copies to any interested parties upon request.

Comment Date: September 29, 2003.

14. Geothermal Properties, Inc.

[Docket No. ER03-1314-000]

Take notice that on September 9, 2003, Geothermal Properties, Inc. tendered for filing a Notice of Cancellation of its market-based rate authority under FERC Electric Tariff, Original Volume No. 1, effective date February 15, 2001 in Docket No. ER01-869-000. Geothermal Properties, Inc. states that the cancellation should take effect September 30, 2003, and that it has not entered into any power sales or power purchase agreements or transactions pursuant to the tariff.

Comment Date: September 30, 2003.

15. MS Retail Development Corp.

[Docket No. ER03-1315-000]

Take notice that on September 9, 2003, MS Retail Development Corp. (MS Retail) petitioned the Commission for acceptance of MS Retail's Rate Schedule FERC No. 1; the granting of certain blanket approvals, including the authority to sell electricity at market-based rates; and the waiver of certain Commission regulations.

MS Retail states that it is a corporation formed under the laws of Delaware and its principal place of business is New York, New York. MS Retail notes that in transactions where it sells electric power it proposes to make such sales on rates, terms, and conditions to be mutually agreed to with the purchasing party.

Comment Date: September 30, 2003.

16. Sunrise Power Company

[Docket No. ER03-1317-000]

Take notice that on September 8, 2003, Sunrise Power Company, LLC, filed a Joint Interconnection Facilities Agreement between Sunrise and La Paloma Generating Company, LLC pursuant to Section 205 of the Federal Power Act.

Comment Date: September 29, 2003.

17. e prime, inc.

[Docket No. ER03-1319-000]

Take notice that on September 9, 2003, e prime, inc. filed a notice with the Commission seeking cancellation of its market-based rate authority effective September 1, 2003 pursuant to Section 35.15(c) of the Commission regulations.

Comment Date: September 30, 2003.

18. Commonwealth Edison Company

[Docket No. ER03-1320-000]

Take notice that on September 9, 2003, Commonwealth Edison Company (ComEd) submitted for filing an interconnection agreement by and between ComEd and Mendota Hills, LLC (Mendota Hills), designated as Service Agreement No. 728 under ComEd's open access transmission service tariff, ComEd FERC Electric Tariff, Second Revised Volume No. 5, to be effective on November 9, 2003.

Comment Date: September 30, 2003.

19. Southwestern Public Service Company

[Docket No. ER03-1321-000]

Take notice that on September 8, 2003, Xcel Energy Services Inc., on behalf of Southwestern Public Service Company (SPS), filed revisions to SPS's Rate Schedule FERC No. 118 and notice of cancellation of certain obsolete supplements to SPS's Rate Schedule FERC No. 118.

Comment Date: September 29, 2003.

20. Bethlehem Steel Corporation

[Docket No. ER03-1322-000]

Take notice that on September 8, 2003, Bethlehem Steel Corporation (Bethlehem) pursuant to Commission's regulations 18 CFR 35.15 and 131.53, submitted for filing a Notice of Cancellation of FERC Electric Tariff No. 1 and Rate Schedule FERC No. 2.

Comment Date: September 29, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00126 Filed 10-27-03; 8:45 am]

BILLING CODE 6717-01-P